DEPARTMENT OF ENERGY

Federal Energy Regulatory Commission

[Project No. 13387-000]

Liberty University, Inc., Notice of Competing Preliminary Permit Application Accepted for Filing and Soliciting Comments and Motions To Intervene

March 12, 2009.

On March 6, 2009, Liberty University, Inc., filed an application, pursuant to section 4(f) of the Federal Power Act (FPA), proposing to study the feasibility of the Scott's Mill Project No. 13387 to be located on the James River in Amherst and Bedford Counties, Virginia.

The proposed project would consist of: (1) The existing 15-foot-high, 925-foot-long Scott's Mill dam; (2) an existing 316-acre reservoir with a normal water surface elevation of 511 feet mean sea level; (3) a new powerhouse containing 4 generating units with a total installed capacity of 4.8 MW; (4) a new 70 to 500-foot-long underground transmission cable; and (5) appurtenant facilities. The estimated annual generation is 10,500 MWh.

Applicant Contact: Lee Beaumont, Assistant to the Chancellor, 1971 University Blvd., Lynchburg, VA 24502 (434) 592-3315.

FERC Contact: Tom Dean (202) 502-6041.

Competing Application: This application competes with Project No. 13302-000 filed October 14, 2008. The deadline to file a competing application or notice of intent ended February 6, 2009.

Deadline for filing comments and motions to intervene: 60 days from the issuance of this notice. Comments and motions to intervene may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Click-on general search and enter the docket number (P-13387) in the docket number field to access the document. For assistance, call toll-free 1-866-208-3372.

Kimberly D. Bose,
Secretary.

[FR Doc. E9-6072 Filed 3-19-09; 8:45 am]

BILLING CODE